FARM CREDIT SYSTEM INSURANCE CORPORATION

Board of Directors Meeting

SUMMARY: Notice of changes to the previously announced regular meeting of the Board of Directors of the Farm Credit System Insurance Corporation (FCSIC), is hereby given in accordance with the provisions of the Bylaws of the FCSIC.

DATES: The meeting of the Board of Directors scheduled for 10 a.m., Wednesday, February 12, 2025, has been moved to 10 a.m., Wednesday, March 12, 2025.

ADDRESSES: You may observe the open portions of this meeting in person at 1501 Farm Credit Drive, McLean, Virginia 22102-5090, or virtually. If you would like to virtually attend, at least 24 hours in advance, visit FCSIC.gov, select “News & Events,” then select “Board Meetings.” From there, access the linked “Instructions for board meeting visitors” and complete the described registration process.

FOR FURTHER INFORMATION CONTACT: If you need more information or assistance for accessibility reasons, or have questions, contact Ashley Waldron, Secretary to the Board. Telephone: 703-883-4009. TTY: 703-883-4056.

SUPPLEMENTARY INFORMATION: As the meeting date approaches, notice will be given regarding the meeting status and the matters the Board of Directors will consider. Since the Board of Directors approved the Review and Setting of Insurance Premium Accrual Rates in a notational vote on February 11, 2025, it will no longer be considered at this meeting.

Ashley Waldron,
Secretary to the Board.

[FR Doc. 2025-02757 Filed 2-18-25; 8:45 am]

BILLING CODE 6705-01-P